DEPARTMENT OF ENERGY

Federal Energy Regulatory Commission

[Project No. 12179-001]

Renewable Power and Light of Saylorville, LLC; Notice of Surrender of Preliminary Permit

June 14, 2004.

Take notice that Renewable Power and Light of Saylorville, LLC, permittee for the proposed Saylorville Project, has requested that its preliminary permit be terminated. The permit was issued on January 8, 2003, and would have expired on December 31, 2006.¹ The project would have been located on the Des Moines River in Polk County, Iowa.

¹ 102 FERC ¶ 62,011.

The permittee filed the request on May 3, 2004, and the preliminary permit for Project No. 12179 shall remain in effect through the 30th day after issuance of this notice unless that day is a Saturday, Sunday, part-day holiday that affects the Commission, or legal holiday as described in section 18 CFR 385.2007, in which case the effective date is the first business day following that day. New applications involving this project site, to the extent provided for under 18 CFR part 4, may be filed on the next business day.

Magalie R. Salas,
Secretary.

[FR Doc. E4-1384 Filed 6-18-04; 8:45 am]

BILLING CODE 6717-01-P